INTERNATIONAL TRADE COMMISSION

[Investigation No. 332-345]

Shifts in U.S. Merchandise Trade 2004

AGENCY: United States International Trade Commission.

EFFECTIVE DATE: July 1, 2004.

ACTION: Opportunity to submit written statements in connection with the July 2005 Web site update containing information for 2004.

SUMMARY: The Commission has prepared and published annual reports on U.S. trade shifts in selected industries/commodity areas under investigation No. 332-345 since 1993. The Commission plans to publish the 2004 Web site update in July 2005, which will cover shifts in U.S. trade in 2004 compared with trade in 2003. Comments and suggestions regarding the Web site update to be completed in July 2005 are welcome in written submissions as specified below.

The ITC has changed the structure of this year's report, converting exclusively to a Web-based format (with added focus on sectoral issues) that can be accessed at http://www.usitc.gov/tradeshifts/default.htm. This new format includes links to ITC research and other resources allowing quick access to analyses and data, as well as links to other organizations that have related information. Future improvements also anticipate additional features, such as mid-year data and information updates. User feedback on the revised format is encouraged by providing access to the ITC online Reader Satisfaction Survey (http://reportweb.usitc.gov/reader_survey/readersurvey.html).

A CD-ROM version of the report containing 2003 data may be requested by contacting the Office of the Secretary at (202) 205-2000 or by fax at (202) 205-2104. Interested parties may also provide comments by downloading the survey form and business reply mailer for this publication from the Commission's Web site.

FOR FURTHER INFORMATION CONTACT: Questions about the merchandise trade shifts information may be directed to the project leader, Heather Sykes, Office of Industries ((202) 205-3436). For information on the legal aspects, please contact William Gearhart, Office of General Counsel ((202) 205-3091). The media should contact Margaret O'Laughlin, Public Affairs Officer ((202) 205-1819). Hearing impaired individuals are advised that information on this matter can be obtained by contacting the TDD terminal on (202) 205-2648.

Background: The initial notice of institution of this investigation was published in the Federal Register of September 8, 1993 (58 F.R. 47287). The Commission expanded the scope of this investigation to cover services trade in a separate report, which it announced in a notice published in the Federal Register of December 28, 1994 (59 F.R. 66974). The merchandise trade report has been published in the current series under investigation No. 332-345 annually since September 1993. This year's Web-based format identifies the key trends affecting principal foreign markets and 10 major U.S. sectors. In addition, U.S. industry and market profiles covering each sector for full-years 1999-2003, to include domestic consumption, production, employment, and import penetration, are provided for more than 250 major industry/commodity groups and subgroups examined in the study.

Written Submissions: No public hearing is planned. However, interested persons are invited to submit written comments or suggestions concerning the July 2005 report. All written submissions must conform with the provisions of section 201.8 of the Commission's Rules of Practice and Procedure (19 CFR 201.8); any submissions that contain confidential business information must also conform with the requirements of section 201.6 of the Commission's Rules of Practice and Procedure (19 CFR 201.6). Section 201.8 of the rules require that a signed original (or a copy designated as an original) and fourteen (14) copies of each document be filed. In the event that confidential treatment of the document is requested, at least four (4) additional copies must be filed, in which the confidential information must be deleted. Section 201.6 of the rules require that the cover of the document and the individual pages clearly be marked as to whether they are the “confidential” or “nonconfidential” version, and that the confidential business information be clearly identified by means of brackets. All written submissions, except for confidential business information, will be made available for inspection by interested parties. In the public version of the report, however, the Commission will not publish confidential business information in a manner that could reveal the operations of the firm supplying the information. The Commission's rules do not authorize filing submissions with the Secretary by facsimile or electronic means, except to the extent permitted by section 201.8 of the Commission's Rules (19 CFR 201.8) (see Handbook for Electronic Filing Procedures, ftp://ftp.usitc.gov/pub/reports/electronic_filing_handbook.pdf). Persons with questions regarding electronic filing should contact the Secretary ((202) 205-2000 or edis@usitc.gov.) To be assured of consideration by the Commission, written statements related to the Commission's report should be submitted to the Commission at the earliest practical date and should be received no later than the close of business on December 29, 2004. All submissions should be addressed to the Secretary, United States International Trade Commission, 500 E Street, SW., Washington, DC 20436.

Issued July 28, 2004.
By order of the Commission.
Marilyn R. Abbott,
Secretary to the Commission.

[FR Doc. 04-17537 Filed 7-30-04; 8:45 am]

BILLING CODE 7020-02-P